DEPARTMENT OF COMMERCE

National Oceanic and Atmospheric Administration

RIN 0648-XD560

Marine Mammals; File No. 18208

AGENCY: National Marine Fisheries Service (NMFS), National Oceanic and Atmospheric Administration (NOAA), Commerce.

ACTION: Notice; receipt of application.

SUMMARY: Notice is hereby given that Randy Sacco, Ph.D., Ruminant Diseases and Immunology Research Unit, National Animal Disease Center, 1920 Dayton Road, P.O. Box 70, Ames, IA 50010, has applied in due form for a permit to receive cell line specimens of marine mammals for scientific research purposes.

DATES: Written, telefaxed, or email comments must be received on or before November 28, 2014.

ADDRESSES: The application and related documents are available for review by selecting “Records Open for Public Comment” from the Features box on the Applications and Permits for Protected Species (APPS) home page, https://apps.nmfs.noaa.gov, and then selecting File No. 18208 from the list of available applications.

This document is also available upon written request or by appointment in the following office:

Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 18208 in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to receive cell lines from up to two Atlantic spotted dolphins (Stenella frontalis), three Atlantic bottlenose dolphins (Tursiops truncatus), and three common dolphins (Delphinus delphis) to study mechanisms whereby respiratory pathogens alter dolphin anti-viral or cytokine/chemokine responses using a parainfluenza virus isolated from a bottlenose dolphin. The objective is to provide information on how influenza viruses affect dolphins and potentially induce disease. Cell lines would be obtained from the American Type Culture Collection or other permitted researchers authorized to maintain cell lines, and would be analyzed at the National Animal Disease Center in Ames, IA. The applicant has requested the permit be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 20, 2014.
Julia Harrison,
Chief, Permits and Conservation Division, Office of Protected Resources, National Marine Fisheries Service.

[FR Doc. 2014-25577 Filed 10-27-14; 8:45 am]

BILLING CODE 3510-22-P